DEPARTMENT OF COMMERCE

Foreign-Trade Zones Board

[B-43-2015]

Foreign-Trade Zone 33—Pittsburgh, Pennsylvania Application for Reorganization Under Alternative Site Framework

An application has been submitted to the Foreign-Trade Zones (FTZ) Board by the Regional Industrial Development Corporation of Southwestern Pennsylvania, grantee of FTZ 33, requesting authority to reorganize the zone under the alternative site framework (ASF) adopted by the FTZ Board (15 CFR 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on June 23, 2015.

FTZ 33 was approved by the FTZ Board on November 9, 1977 (Board Order 124, 42 FR 59398, 11/17/1977) and expanded on March 16, 1981 (Board Order 172, 46 FR 18063, 3/23/1981); May 14, 1998 (Board Order 981, 63 FR 29179, 5/28/1998); February 23, 2010 (Board Order 1667, 75 FR 13488-13489, 3/22/2010); and, November 5, 2012 (Board Order 1867, 77 FR 69591, 11/20/2012).

The current zone includes the following sites: Site 1 (45 acres)—RIDC Park West, Park West Drive, Findlay Township, Allegheny County; Site 2 (5,352 acres)—Pittsburgh International Airport Complex, Imperial, Allegheny County; Site 3 (125 acres)—Leetsdale 500 W Park Road, Leetsdale, Allegheny County; Site 4 (59 acres)—Westmoreland Business and Research Park, 115 Hunt Valley Road, New Kensington, Westmoreland County; Site 5 (18.746 acres)—Millennium Business Park, 154 and 360 Keystone Drive, New Castle, Lawrence County; Site 10 (19 acres)—RIDC Industrial Park, 560-570 Alpha Drive, O'Hara Township, Allegheny County; and, Site 18 (336 acres)—RIDC Westmoreland, 1001 Technology Drive, Mt. Pleasant, Westmoreland County.

The grantee's proposed service area under the ASF would be Allegheny, Armstrong, Beaver, Butler, Fayette, Greene, Indiana, Lawrence, Somerset, Washington and Westmoreland Counties, Pennsylvania, as described in the application. If approved, the grantee would be able to serve sites throughout the service area based on companies' needs for FTZ designation. The proposed service area is within and adjacent to the Pittsburgh Customs and Border Protection port of entry.

The applicant is requesting authority to reorganize its zone to include existing Sites 1, 2 and 18 as “magnet” sites and existing Sites 3, 4, 5 and 10 as “usage-driven” sites. The applicant is requesting that Sites 1, 3 and 10 be modified to reduce the sites' boundaries. The ASF allows for the possible exemption of one magnet site from the “sunset” time limits that generally apply to sites under the ASF, and the applicant proposes that Site 1 be so exempted. The application would have no impact on FTZ 33's previously authorized subzones.

In accordance with the FTZ Board's regulations, Elizabeth Whiteman of the FTZ Staff is designated examiner to evaluate and analyze the facts and information presented in the application and case record and to report findings and recommendations to the FTZ Board.

Public comment is invited from interested parties. Submissions shall be addressed to the FTZ Board's Executive Secretary at the address below. The closing period for their receipt is August 31, 2015. Rebuttal comments in response to material submitted during the foregoing period may be submitted during the subsequent 15-day period to September 14, 2015.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz. For further information, contact Elizabeth Whiteman at Elizabeth.Whiteman@trade.gov or (202) 482-0473.

Dated: June 23, 2015.
Elizabeth Whiteman,
Acting Executive Secretary.

[FR Doc. 2015-16104 Filed 6-29-15; 8:45 am]

BILLING CODE 3510-DS-P